DEPARTMENT OF ENERGY

Federal Energy Regulatory Commission

Combined Notice of Filings #1

Take notice that the Commission received the following electric corporate filings:

Docket Numbers: EC22-103-000.

Applicants: Sonny Solar, LLC, PGR 2021 Lessee 13, LLC.

Description: Joint Application for Authorization Under Section 203 of the Federal Power Act of Sonny Solar, LLC, et al.

Filed Date: 8/12/22.

Accession Number: 20220812-5217.

Comment Date: 5 p.m. ET 9/2/22.

Docket Numbers: EC22-104-000.

Applicants: Allora Solar, LLC, PGR 2021 Lessee 19, LLC.

Description: Joint Application for Authorization Under Section 203 of the Federal Power Act of Allora Solar, LLC, LLC, et al.

Filed Date: 8/12/22.

Accession Number: 20220812-5219.

Comment Date: 5 p.m. ET 9/2/22.

Docket Numbers: EC22-105-000.

Applicants: Gunsight Solar, LLC, PGR 2021 Lessee 15, LLC.

Description: Joint Application for Authorization Under Section 203 of the Federal Power Act of Gunsight Solar, LLC, et al.

Filed Date: 8/12/22.

Accession Number: 20220812-5222.

Comment Date: 5 p.m. ET 9/2/22.

Docket Numbers: EC22-106-000.

Applicants: Cabin Creek Solar, LLC, PGR 2021 Lessee 12, LLC.

Description: Joint Application for Authorization Under Section 203 of the Federal Power Act of Cabin Creek Solar, LLC, et al.

Filed Date: 8/12/22.

Accession Number: 20220812-5224.

Comment Date: 5 p.m. ET 9/2/22.

Docket Numbers: EC22-107-000.

Applicants: Bulldog Solar, LLC, PGR 2021 Lessee 9, LLC.

Description: Joint Application for Authorization Under Section 203 of the Federal Power Act of Bulldog Solar, LLC, et al.

Filed Date: 8/12/22.

Accession Number: 20220812-5227.

Comment Date: 5 p.m. ET 9/2/22.

Docket Numbers: EC22-108-000.

Applicants: Northern States Power Company, a Minnesota Corporation, Northern Wind Energy Redevelopment, LLC.

Description: Joint Application for Authorization Under Section 203 of the Federal Power Act of Northern States Power Company, et al.

Filed Date: 8/15/22.

Accession Number: 20220815-5113.

Comment Date: 5 p.m. ET 9/6/22.

Docket Numbers: EC22-109-000.

Applicants: Northern States Power Company, a Minnesota Corporation, Rock Aetna Power Partners, LLC.

Description: Joint Application for Authorization Under Section 203 of the Federal Power Act of Northern States Power Company, a Minnesota Corporation, et al.

Filed Date: 8/15/22.

Accession Number: 20220815-5124.

Comment Date: 5 p.m. ET 9/6/22.

Take notice that the Commission received the following electric rate filings:

Docket Numbers: ER21-2455-003.

Applicants: California Independent System Operator Corporation.

Description: Compliance filing: 2022-08-15 Compliance Filing—FERC Order No. 2222 to be effective 6/16/2022.

Filed Date: 8/15/22.

Accession Number: 20220815-5078.

Comment Date: 5 p.m. ET 9/6/22.

Docket Numbers: ER22-2494-000.

Applicants: FirstEnergy Service Company.

Description: FirstEnergy Service Company Submits Request for Limited Waiver of Affiliate Rules.

Filed Date: 7/25/22.

Accession Number: 20220725-5180.

Comment Date: 5 p.m. ET 8/19/22.

Docket Numbers: ER22-2656-000.

Applicants: PJM Interconnection, L.L.C.

Description: § 205(d) Rate Filing: Original ISA/ICSA Nos. 6555 and 6556; Queue No. AC1-086 to be effective 7/14/2022.

Filed Date: 8/15/22.

Accession Number: 20220815-5036.

Comment Date: 5 p.m. ET 9/6/22.

Docket Numbers: ER22-2657-000.

Applicants: PJM Interconnection, L.L.C.

Description: § 205(d) Rate Filing: Cost Responsibility Agreement, SA No. 6557; Non-Queue No. NQ-173 to be effective 7/19/2022.

Filed Date: 8/15/22.

Accession Number: 20220815-5080.

Comment Date: 5 p.m. ET 9/6/22.

Docket Numbers: ER22-2659-000.

Applicants: Midcontinent Independent System Operator, Inc.

Description: § 205(d) Rate Filing: 2022-08-15_SA 2927 Duke Energy-Duke Energy 2nd Rev GIA (J453 J1189) to be effective 8/5/2022.

Filed Date: 8/15/22.

Accession Number: 20220815-5131.

Comment Date: 5 p.m. ET 9/6/22.

Docket Numbers: ER22-2660-000.

Applicants: Southwest Power Pool, Inc.

Description: § 205(d) Rate Filing: SPS Formula Rate Revisions to Incorporate Changes Accepted in ER22-201 to be effective 5/19/2021.

Filed Date: 8/15/22.

Accession Number: 20220815-5151.

Comment Date: 5 p.m. ET 9/6/22.

Docket Numbers: ER22-2661-000.

Applicants: California Independent System Operator Corporation

Description: § 205(d) Rate Filing: 2022-08-15 Flexible Ramping Product Enhancements to be effective 12/31/9998.

Filed Date: 8/15/22.

Accession Number: 20220815-5159.

Comment Date: 5 p.m. ET 9/6/22.

Docket Numbers: ER22-2662-000.

Applicants: Aron Energy Prepay 14 LLC.

Description: Baseline eTariff Filing: Market-Based Rate Application to be effective 10/15/2022.

Filed Date: 8/15/22.

Accession Number: 20220815-5167.

Comment Date: 5 p.m. ET 9/6/22.

Take notice that the Commission received the following qualifying facility filings:

Docket Numbers: QF22-854-000.

Applicants: Radford University.

Description: Form 556 of Radford University.

Filed Date: 8/15/22.

Accession Number: 20220815-5033.

Comment Date: 5 p.m. ET 9/6/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 15, 2022.
Debbie-Anne A. Reese,
Deputy Secretary.

[FR Doc. 2022-17905 Filed 8-18-22; 8:45 am]

BILLING CODE 6717-01-P